DEPARTMENT OF TRANSPORTATION

Federal Aviation Administration

14 CFR Part 39

[Docket No. FAA-2010-0033; Directorate Identifier 2009-NM-099-AD]

RIN 2120-AA64

Airworthiness Directives; The Boeing Company Model 767 Airplanes

AGENCY: Federal Aviation Administration (FAA), Department of Transportation (DOT).

ACTION: Notice of proposed rulemaking (NPRM).

SUMMARY: The FAA proposes to supersede an existing airworthiness directive (AD) that applies to all Model 767 airplanes. The existing AD currently requires repetitive detailed and high frequency eddy current (HFEC) inspections of the station (STA) 1809.5 bulkhead for cracking, and corrective actions if necessary. This proposed AD would expand the inspection area to include the vertical inner chord at STA 1809.5. This proposed AD results from reported fatigue cracking in the vertical inner chord and the forward outer chord while doing the detailed inspection of the horizontal inner chord at STA 1809.5. We are proposing this AD to detect and correct fatigue cracking in the bulkhead structure at STA 1809.5 and the vertical inner chord at STA 1809.5, which could result in failure of the bulkhead structure for carrying the flight loads of the horizontal stabilizer, and consequent loss of controllability of the airplane.

DATES: We must receive comments on this proposed AD by March 25, 2010.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Boeing Commercial Airplanes, Attention: Data & Services Management, P. O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Berhane Alazar, Airframe Branch, ANM-120S, FAA, Seattle Aircraft Certification Office, 1601 Lind Avenue, SW., Renton, Washington 98057-3356; telephone (425) 917-6577; fax (425) 917-6590.

SUPPLEMENTARY INFORMATION:

Comments Invited

We invite you to send any written relevant data, views, or arguments about this proposed AD. Send your comments to an address listed under the ADDRESSES section. Include “Docket No. FAA-2010-0033; Directorate Identifier 2009-NM-099-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On November 9, 2006, we issued AD 2006-24-04, Amendment 39-14833 (71 FR 68432, November 27, 2006), for all Model 767 airplanes. That AD requires repetitive detailed and high frequency eddy current (HFEC) inspections of the station (STA) 1809.5 bulkhead for cracking, and corrective actions if necessary. That AD resulted from fatigue cracks found in the forward outer chord and horizontal inner chord at STA 1809.5. We issued that AD to detect and correct cracking in the bulkhead structure at STA 1809.5, which could result in failure of the bulkhead structure for carrying the flight loads of the horizontal stabilizer, and consequent loss of controllability of the airplane.

Actions Since Existing AD Was Issued

Since we issued AD 2006-24-04, an operator reported fatigue cracking in the vertical inner chord found while doing the detailed inspection of the horizontal inner chord required by that AD. A surface HFEC inspection was done to confirm the crack. The crack was found on the right side of the structure at a fastener hole near buttock line (BL) 28.5, water line (WL) 257, common to both the horizontal and vertical inner chord. The vertical inner chord crack was found on an airplane with 28,234 total flight cycles.

Relevant Service Information

AD 2006-24-04 refers to Boeing Alert Service Bulletin 767-53A0131, dated March 30, 2006, as the appropriate source of service information for the required actions. We have reviewed Boeing Alert Service Bulletin 767-53A0131, Revision 1, dated March 12, 2009. Revision 1 adds a surface HFEC inspection for the vertical inner chord, and clarifies the procedures for inspecting the horizontal inner chord. The service bulletin specifies a compliance time of before 15,000 total flight cycles or within 6,000 flight cycles after the previous PARTS 1-4 inspection, whichever occurs first, for the surface HFEC inspection for the vertical inner chord. The service bulletin also specifies a repeat interval 6,000 flight cycles thereafter for the surface HFEC inspection for the vertical inner chord.

FAA's Determination and Requirements of the Proposed AD

We have evaluated all pertinent information and identified an unsafe condition that is likely to develop on other airplanes of the same type design. For this reason, we are proposing this AD, which would supersede AD 2006-24-04 and retain the requirements of the existing AD. This proposed AD would also require accomplishing the new actions specified in the revised service bulletin described previously.

Change to Paragraph (i) of the Existing AD

We have revised paragraph (i) of the existing AD to clarify that the modification of a forward outer chord may be done in accordance with Steps 4.A through 4.C and 4.G through 4.P of Repair 9, dated April 15, 2006, of Chapter 53-80-08 of the Boeing 767-200 Structural Repair Manual (SRM), Document D634T201; Boeing 767-300 SRM, Document D634T210; Boeing 767-300F SRM, Document D634T215; or Boeing 767-400 SRM, Document D634T225; as applicable. For a horizontal inner chord, modification may be done in accordance with Steps 4.A, 4.B, and 4.F through 4.P of Repair 10, dated April 15, 2006, of Chapter 53-80-08 of the Boeing 767-200 SRM, Document D634T201; Boeing 767-300 SRM, Document D634T210; Boeing 767-300F SRM, Document D634T215; or Boeing 767-400 SRM, Document D634T225; as applicable.

Change to Paragraph (j)(3) of the Existing AD

Boeing Commercial Airplanes has received an Organization Designation Authorization (ODA), which replaces their previous designation as a Delegation Option Authorization (DOA) holder. We have revised paragraph (j)(3) of the existing AD (paragraph (n)(3) of this AD) to delegate the authority to approve an alternative method of compliance for any repair required by this AD to the Boeing Commercial Airplanes ODA.

Costs of Compliance

There are about 975 airplanes of the affected design in the worldwide fleet. The following table provides the estimated costs for U.S. operators to comply with this proposed AD.

Estimated Costs
Action | Work hours | Average labor rate per hour | Parts | Cost per airplane | Number of U.S.-registered airplanes | Fleet cost
Repetitive inspections of STA 1805.5 (required by AD 2006-24-04) | 12 | $80 | None | $960 per inspection cycle | 354 | $339,840 per inspection cycle.
Inspection of inner chord (new proposed action) | 2 | $80 | None | $160 per inspection cycle | 354 | $56,640 per inspection cycle.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14833 (71 FR 68432, November 27, 2006) and adding the following new AD:

The Boeing Company: Docket No. FAA-2010-0033; Directorate Identifier 2009-NM-099-AD.

Comments Due Date

(a) The FAA must receive comments on this AD action by March 25, 2010.

Affected ADs

(b) This AD supersedes AD 2006-24-04, Amendment 39-14833.

Applicability

(c) This AD applies to all The Boeing Company Model 767-200, -300, -300F, and -400ER series airplanes, certificated in any category.

Subject

(d) Air Transport Association (ATA) of America Code 53: Fuselage.

Unsafe Condition

(e) This AD results from reported fatigue cracking in the vertical inner chord while doing a detailed inspection of the horizontal inner chord. The Federal Aviation Administration is issuing this AD to detect and correct fatigue cracking in the bulkhead structure at station (STA) 1809.5 and the vertical inner chord at STA 1809.5, which could result in failure of the bulkhead structure for carrying the flight loads of the horizontal stabilizer, and consequent loss of controllability of the airplane.

Compliance

(f) You are responsible for having the actions required by this AD performed within the compliance times specified, unless the actions have already been done.

Restatement of Requirements of AD 2006-24-04, With New Service Information

Repetitive Inspections and Corrective Actions

(g) Before the accumulation of 15,000 total flight cycles, or within 3,000 flight cycles after January 2, 2007 (the effective date of AD 2006-24-04), whichever is later: Do the detailed and high frequency eddy current (HFEC) inspections for cracking as specified in Parts 1, 2, 3, and 4 of the Accomplishment Instructions of Boeing Alert Service Bulletin 767-53A0131, dated March 30, 2006; or Revision 1, dated March 12, 2009; and do all corrective actions before further flight; by accomplishing all the actions specified in the Accomplishment Instructions of Boeing Alert Service Bulletin 767-53A0131, dated March 30, 2006; or Boeing Alert Service Bulletin 767-53A0131, Revision 1, dated March 12, 2009; except as provided by paragraph (h) of this AD. After the effective date of this AD, use only Revision 1, dated March 12, 2009, of Boeing Alert Service Bulletin 767-53A0131. Repeat the inspections thereafter at intervals not to exceed 6,000 flight cycles. Accomplishing the corrective action for the inspections specified in Part 1, 2, 3, or 4, as applicable, of Boeing Alert Service Bulletin 767-53A0131, dated March 30, 2006; or Revision 1, dated March 12, 2009; as applicable; terminates the repetitive inspections for that area only.

Exceptions to Service Bulletin

(h) If any cracking is found in the skin or in any structure other than the forward outer chord or horizontal inner chord during any inspection required by paragraph (g) or (k) of this AD, and Boeing Service Bulletin 767-53A0131, dated March 30, 2006; or Boeing Alert Service Bulletin 767-53A0131, Revision 1, dated March 12, 2009; specifies to contact Boeing for appropriate action: Before further flight, repair the cracking using a method approved in accordance with the procedures specified in paragraph (n) of this AD.

Optional Terminating Action for the Repetitive Inspections Required by Paragraph (g) of this AD

(i) If no cracking is found during the most recent detailed and HFEC inspections for a specified area as required by paragraph (g) of this AD: Modification of a specified area in accordance with a method approved by the Manager, Seattle Aircraft Certification Office (ACO), FAA, terminates the repetitive inspections required by paragraph (g) of this AD for that area only. Modification of a forward outer chord in accordance with Steps 4.A through 4.C and 4.G through 4.P of Repair 9, dated April 15, 2006, of Chapter 53-80-08 of the Boeing 767-200 Structural Repair Manual (SRM), Document D634T201; Boeing 767-300 SRM, Document D634T210; Boeing 767-300F SRM, Document D634T215; or Boeing 767-400 SRM, Document D634T225; as applicable; also terminates the repetitive inspections required by paragraph (g) of this AD for that area. Modification of a horizontal inner chord in accordance with Steps 4.A, 4.B, and 4.F through 4.P of Repair 10, dated April 15, 2006, of Chapter 53-80-08 of the Boeing 767-200 SRM, Document D634T201; Boeing 767-300 SRM, Document D634T210; Boeing 767-300F SRM, Document D634T215; or Boeing 767-400 SRM, Document D634T225; as applicable; also terminates the repetitive inspections required by paragraph (g) of this AD for that area.

Credit for Previously Accomplished Repairs

(j) Repair of a forward outer chord done before January 2, 2007, in accordance with Repair 9, dated April 15, 2006, of Chapter 53-80-08 of the Boeing 767-200 SRM, Document D634T201; Boeing 767-300 SRM, Document D634T210; Boeing 767-300F SRM, Document D634T215; or Boeing 767-400 SRM, Document D634T225; as applicable; is acceptable for compliance with the requirements of paragraph (g) of this AD for that area only. Repair of a horizontal inner chord before January 2, 2007, in accordance with Repair 10, dated April 15, 2006, of Chapter 53-80-08 of the Boeing 767-200 SRM, Document D634T201; Boeing 767-300 SRM, Document D634T210; Boeing 767-300F SRM, Document D634T215; or Boeing 767-400 SRM, Document D634T225; as applicable; is acceptable for compliance with the requirements of paragraph (g) of this AD for that area only.

New Requirements of This AD

Inspections

(k) At the later of the times specified in paragraphs (k)(1) and (k)(2) of this AD, except as specified in paragraph (l) of this AD: Do the detailed and HFEC inspections for cracking as specified in Parts 5 and 6 of the Accomplishment Instructions of Boeing Alert Service Bulletin 767-53A0131, Revision 1, dated March 12, 2009; and do all applicable corrective actions by accomplishing all the actions specified in the Accomplishment Instructions of Boeing Alert Service Bulletin 767-53A0131, Revision 1, dated March 12, 2009; except as provided by paragraph (h) of this AD. Do all applicable corrective actions before further flight. Repeat the inspections thereafter at intervals not to exceed 6,000 flight cycles. Accomplishing the corrective action for the inspections specified in Part 5 or 6 of the Accomplishment Instructions of Boeing Alert Service Bulletin 767-53A0131, Revision 1, dated March 12, 2009, as applicable, terminates the repetitive inspections for that area only.

(1) 15,000 total flight cycles or 6,000 flight cycles after the inspection required by paragraph (g) of this AD, whichever occurs first.

(2) 30 days after the effective date of this AD.

Exceptions to the Service Bulletin

(l) Where Boeing Alert Service Bulletin 767-53A0131, Revision 1, dated March 12, 2009, specifies a compliance time “after the date on the original issue of the service bulletin” or “after the date on Revision 01 of the service bulletin,” this AD requires compliance within the specified compliance time after the effective date of this AD.

Optional Terminating Action for the Repetitive Inspections Required by Paragraph (k) of This AD

(m) If no cracking is found during the most recent detailed and HFEC inspections for a specified area as required by paragraph (k) of this AD: Modification of a specified area in accordance with a method approved by the Manager, Seattle ACO, FAA, terminates the repetitive inspections required by paragraph (k) of this AD for that area only.

Note 1: Guidance on modifying a vertical inner chord can be found in the service information identified in Table 1 of this AD.

Table 1—Service Information
Steps— | Dated— | Of—
4.A through 4.C and 4.G through 4.Q of Repair 11 | August 15, 2008 | Chapter 53-80-08 of the Boeing 767-200 SRM, Document D634T201.
4.A through 4.C and 4.G through 4.Q of Repair 11 | August 15, 2008 | Chapter 53-80-08 of the Boeing 767-300 SRM, Document D634T210.
4.A through 4.C and 4.G through 4.Q of Repair 11 | August 15, 2008 | Chapter 53-80-08 of the Boeing 767-300F SRM, Document D634T215.
4.A through 4.C and 4.G through 4.Q of Repair 11 | August 15, 2008 | Chapter 53-80-08 of the Boeing 767-400 SRM, Document D634T225.

Alternative Methods of Compliance (AMOCs)

(n)(1) The Manager, Seattle ACO, FAA, has the authority to approve AMOCs for this AD, if requested using the procedures found in 14 CFR 39.19. Send information to ATTN: Berhane Alazar, Airframe Branch, ANM-120S, FAA, Seattle Aircraft Certification Office, 1601 Lind Avenue, SW., Renton, Washington 98057-3356; telephone (425) 917-6577; fax (425) 917-6590. Or, e-mail information to 9-ANM-Seattle-ACO-AMOC-Requests@faa.gov.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

(3) An AMOC that provides an acceptable level of safety may be used for any repair required by this AD, if it is approved by the Boeing Commercial Airplanes Organization Designation Authorization (ODA) that has been authorized by the Manager, Seattle ACO, to make those findings. For a repair method to be approved, the repair must meet the certification basis of the airplane, and the approval must specifically refer to this AD.

(4) AMOCs approved previously in accordance with AD 2006-24-04 are approved as AMOCs for the corresponding provisions of this AD.

Issued in Renton, Washington, on January 28, 2010.
Ali Bahrami,
Manager, Transport Airplane Directorate, Aircraft Certification Service.

[FR Doc. 2010-2685 Filed 2-5-10; 8:45 am]

BILLING CODE 4910-13-P